DEPARTMENT OF HEALTH AND HUMAN SERVICES

Centers for Disease Control and Prevention

Disease, Disability, and Injury Prevention and Control Special Emphasis Panel: Epidemiologic Study of Inflammatory Bowel Disease, Request for Applications Number DP-05-130; Correction

Correction: This notice was published in the Federal Register on August 18, 2005, Volume 70, Number 159, page 48574. The meeting time and date has been changed.

Time and Date: 2:30 p.m.-4 p.m., September 27, 2005 (Closed).

FOR FURTHER INFORMATION CONTACT: J. Felix Rogers, PhD, MPH, Scientific Review Administrator, National Center for Chronic Disease Prevention and Health Promotion, 4770 Buford Highway, MS-K92, Atlanta, GA 30341, Telephone 404.639.6101.

The Director, Management Analysis and Services Office, has been delegated the authority to sign Federal Register notices pertaining to announcements of meetings and other committee management activities, for both CDC and the Agency for Toxic Substances and Disease Registry.

Dated: August 26, 2005.
B. Kathy Skipper,
Acting Director, Management Analysis and Services Office, Centers for Disease Control and Prevention (CDC).

[FR Doc. 05-17410 Filed 8-31-05; 8:45 am]

BILLING CODE 4163-18-P